DEPARTMENT OF ENERGY

Federal Energy Regulatory Commission

Combined Notice of Filings

Take notice that the Commission has received the following Natural Gas Pipeline Rate and Refund Report filings:

Filings Instituting Proceedings

Docket Numbers: RP12-308-000.

Applicants: Golden Pass Pipeline LLC.

Description: Golden Pass Pipeline LLC submits tariff filing per 154.204: GPPL FERC Gas Tariff Cleanup filing to be effective 3/1/2012.

Filed Date: 1/12/12.

Accession Number: 20120112-5126.

Comments Due: 5 p.m. ET 1/24/12.

Docket Numbers: RP12-309-000.

Applicants: Kern River Gas Transmission Company.

Description: Request for Limited Waiver of Kern River Gas Transmission Company.

Filed Date: 1/11/12.

Accession Number: 20120111-5257.

Comments Due: 5 p.m. ET 1/23/12.

Docket Numbers: RP12-310-000.

Applicants: Gas Transmission Northwest LLC.

Description: Gas Transmission Northwest LLC Submission of Refund Report.

Filed Date: 1/13/12.

Accession Number: 20120113-5023.

Comments Due: 5 p.m. ET 1/25/12.

Docket Numbers: RP12-311-000.

Applicants: Central New York Oil And Gas, LLC.

Description: Joint Facilities Filing in Compliance with Order in Docket No. CP10-480-000 to be effective 12/1/2011.

Filed Date: 1/13/12.

Accession Number: 20120113-5060.

Comments Due: 5 p.m. ET 1/25/12.

Docket Numbers: RP12-312-000.

Applicants: Dogwood Energy LLC, Missouri Joint Municipal Electric Util., City of Independence, Missouri, Kansas Power Pool, Kansas City Board of Public Utilities.

Description: Request of Dogwood Energy, LLC, Missouri Joint Municipal Electric Utility Commission, the City of Independence, Missouri, Kansas Power Pool and Kansas City Board of Public Utilities for Temporary Waiver.

Filed Date: 1/13/12.

Accession Number: 20120113-5192.

Comments Due: 5 p.m. ET 1/25/12.

Docket Numbers: RP12-313-000.

Applicants: Sea Robin Pipeline Company, LLC.

Description: Sea Robin Pipeline Company, LLC submits tariff filing per 154.203: Compliance with RP09-995-000 and RP10-422-000 to be effective 8/24/2010.

Filed Date: 1/13/12.

Accession Number: 20120113-5201.

Comments Due: 5 p.m. ET 1/25/12.

Docket Numbers: RP12-314-000.

Applicants: Questar Overthrust Pipeline Company.

Description: Questar Overthrust Pipeline Company submits tariff filing per 154.204: Non-conforming TSAs V. 1.0.0 to be effective 2/17/2012.

Filed Date: 1/17/12.

Accession Number: 20120117-5104.

Comments Due: 5 p.m. ET 1/30/12.

Docket Numbers: RP12-315-000.

Applicants: Questar Southern Trails Pipeline Company.

Description: Questar Southern Trails Pipeline Company submits tariff filing per 154.204: Statement of Negotiated Rates V. 2.0.0 to be effective 2/17/2012.

Filed Date: 1/17/12.

Accession Number: 20120117-5108.

Comments Due: 5 p.m. ET 1/30/12.

Docket Numbers: RP12-316-000.

Applicants: White River Hub, LLC.

Description: White River Hub, LLC submits tariff filing per 154.204: Non-conforming TSAs V. 1.0.0 to be effective 2/17/2012.

Filed Date: 1/17/12.

Accession Number: 20120117-5110.

Comments Due: 5 p.m. ET 1/30/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-263-001.

Applicants: Trailblazer Pipeline Company LLC.

Description: Trailblazer Pipeline Company LLC submits tariff filing per 154.205(b): Amended Negotiated Rate Filing—CIMA to be effective 1/1/2012.

Filed Date: 1/12/12.

Accession Number: 20120112-5058.

Comments Due: 5 p.m. ET 1/24/12.

Docket Numbers: RP12-264-001.

Applicants: Trailblazer Pipeline Company LLC.

Description: Trailblazer Pipeline Company LLC submits tariff filing per 154.205(b): Amended Negotiated Rate Filing—Concord to be effective 1/1/2012.

Filed Date: 1/12/12.

Accession Number: 20120112-5060.

Comments Due: 5 p.m. ET 1/24/12.

Docket Numbers: RP12-266-001.

Applicants: Trailblazer Pipeline Company LLC.

Description: Trailblazer Pipeline Company LLC submits tariff filing per 154.205(b): Amended Negotiated Rate Filing—MIECO to be effective 1/1/2012.

Filed Date: 1/12/12.

Accession Number: 20120112-5059.

Comments Due: 5 p.m. ET 1/24/12.

Docket Numbers: RP12-293-001.

Applicants: Trailblazer Pipeline Company LLC.

Description: Trailblazer Pipeline Company LLC submits tariff filing per 154.205(b): Amended Negotiated Rate Filing—United Energy Trading to be effective 1/7/2012.

Filed Date: 1/12/12.

Accession Number: 20120112-5062.

Comments Due: 5 p.m. ET 1/24/12.

Docket Numbers: RP06-298-015.

Applicants: Public Service Commission of New York v.

Description: Semi-Annual Report of Operational Sales of Gas filed by National Fuel Gas Supply Corporation under RP06-298.

Filed Date: 1/13/12.

Accession Number: 20120113-5177.

Comments Due: 5 p.m. ET 1/25/12.

Docket Numbers: RP11-1873-001.

Applicants: Eastern Shore Natural Gas Company.

Description: Eastern Shore Natural Gas Company submits tariff filing per 154.203: Creditworthiness Compliance RP11-1873 to be effective 4/7/2011.

Filed Date: 1/13/12.

Accession Number: 20120113-5176.

Comments Due: 5 p.m. ET 1/25/12.

Docket Numbers: RP12-233-001.

Applicants: CenterPoint Energy Gas Transmission Company, LLC.

Description: CenterPoint Energy Gas Transmission Company, LLC submits tariff filing per 154.203: Compliance Filing—Discount Type Adjustment for Negotiated Rate Agreements to be effective 1/12/2012.

Filed Date: 1/17/12.

Accession Number: 20120117-5090.

Comments Due: 5 p.m. ET 1/30/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 17, 2012.
Nathaniel J. Davis, Sr.,
Deputy Secretary.

[FR Doc. 2012-1366 Filed 1-23-12; 8:45 am]

BILLING CODE 6717-01-P